DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Precanvass Operation for the 2012 Economic Census Commodity Flow Survey.

OMB Control Number: 0607-0921.

Form Number(s): CFS-0001(2012).

Type of Request: Reinstatement, with change of an expired collection.

Burden Hours: 8,333.

Number of Respondents: 100,000.

Average Hours per Response: 5 minutes.

Needs and Uses: The U.S. Census Bureau plans to conduct the 2012 Commodity Flow Survey (CFS) as a part of the quinquennial Economic Census. In advance of the 2012 CFS, we will conduct a Precanvass (Advance Mailing), which is the subject of this request. The information collected in the 2012 CFS Precanvass will be used to improve the 2012 CFS universe and sampling quality and efficiency, and provide contact information for the selected establishments, reducing the cost and improving the timeliness of data collection for the 2012 CFS.

The CFS, a component of the Economic Census, is the only comprehensive source of multi-modal, system-wide data on the volume and pattern of goods movement in the United States. The CFS is conducted in partnership with the Bureau of Transportation Statistics (BTS), Research and Innovative Technologies (RITA), U.S. Department of Transportation. The 2012 CFS will be the subject of a separate Office of Management and Budget (OMB) clearance submission in the Spring of 2011.

The 2012 CFS Precanvass will be mailed to auxiliary establishments, and establishments expected to be selected with certainty in the 2012 CFS. It will also include selected small establishments from industries with a high incidence of non-shipping locations.

All information collected in the Precanvass will be used internally to improve the 2012 CFS universe and mail-out processing. Each establishment in the Precanvass is asked to verify shipping activity for that particular physical location. The Precanvass sample is heavily weighted with industries that contain a significant percentage of non-shipping establishments. The identification and elimination of the non-shippers will produce a more efficient 2012 CFS sample. Each confirmed shipper is asked to indicate its level of shipping activity. The value of shipments measure is used in the stratification and allocation for CFS sampling. Each shipper is asked to verify address and contact information, allowing us to update our mailing records for the 2012 CFS. Because the CFS requests a sample of outbound shipments and their characteristics, the questionnaire must be completed by someone with access to the establishment's transportation records, unlike many other economic surveys which are directed to accounting departments. By ensuring the direct delivery of the 2012 CFS questionnaire to the correct contact, we will be able to improve the quality and level of response in the CFS.

Affected Public: Businesses or other for-profit.

Frequency: One time.

Respondent's Obligation: Mandatory.

Legal Authority: Title 13, U.S.C., sections 131,193, and 224.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer, either by fax (202-395-7245) or e-mail (bharrisk@omb.eop.gov).

Dated: September 14, 2010.
Glenna Mickelson,
Management Analyst, Office of the Chief Information Officer.

[FR Doc. 2010-23278 Filed 9-16-10; 8:45 am]

BILLING CODE 3510-07-P